DEPARTMENT OF LABOR

Office of Workers' Compensation Programs

OMB Approval of Information Collection; Energy Employees Occupational Illness Compensation Program Act of 2000, as Amended

AGENCY: Office of Workers' Compensation Programs, Employment Standards Administration, Labor.

ACTION: Notice of OMB approval under the Paperwork Reduction Act of 1995.

SUMMARY: The Office of Workers' Compensation Programs (OWCP) is announcing that the Office of Management and Budget (OMB) has approved, under the Paperwork Reduction Act of 1995, a new collection of information under the Energy Employees Occupational Illness Compensation Program Act of 2000, as amended. This notice announces both the OMB approval number and expiration date.

Compliance Date: As of January 22, 2003, affected parties must comply with the new information collection requirements described below which have been approved by OMB under the Paperwork Reduction Act of 1995 (PRA), 44 U.S.C. 3501 et seq.

FOR FURTHER INFORMATION CONTACT: Shelby Hallmark, Director, Office of Workers' Compensation Programs, Employment Standards Administration, U.S. Department of Labor, Room S-3524, 200 Constitution Avenue, NW., Washington, DC 20210. Telephone: 202-693-0036 (this is not a toll-free number).

SUPPLEMENTARY INFORMATION: On November 6, 2002, OWCP requested OMB approval under the PRA of a new information collection for the Energy Employees Occupational Illness Compensation Program Act of 2000, as amended (EEOICPA), 42 U.S.C. 7384 et seq. The new information collection requirements that needed OMB approval are derived from sections 7384d and 7384v(c) of the EEOICPA, and consists of requests for supplemental employment evidence required when an alleged employment history cannot be verified by the Department of Energy.

On January 8, 2003, OMB approved this information collection request for three years. The OMB control number assigned to this information collection is 1215-0199. The approval for this information collection will expire on January 31, 2006.

Signed at Washington, DC, this 16th day of January, 2003.
Shelby Hallmark,
Director, Office of Workers' Compensation Programs, Employment Standards Administration.

[FR Doc. 03-1355 Filed 1-21-03; 8:45 am]

BILLING CODE 4510-CR-M